DEPARTMENT OF EDUCATION

Applications for New Awards: Rehabilitation Long-Term Training Program—Vocational Rehabilitation Counseling

AGENCY: Office of Special Education and Rehabilitative Services, Department of Education.

ACTION: Notice.

SUMMARY: The mission of the Office of Special Education and Rehabilitative Services (OSERS) is to improve early childhood, educational, and employment outcomes and raise expectations for all people with disabilities, their families, their communities, and the Nation. The Department of Education (Department) is issuing a notice inviting applications for fiscal year (FY) 2020 for the Rehabilitation Long-Term Training program, Catalog of Federal Domestic Assistance (CFDA) number 84.129B. The Long-Term Training program will provide training in Rehabilitation Counseling. Projects funded under the Rehabilitation Long-Term Training competition must meet rigorous standards in order to provide rehabilitation professionals the knowledge, skills, and qualifications necessary to meet the current challenges facing State vocational rehabilitation (VR) agencies and related agencies and to assist youth and adults with disabilities in achieving competitive integrated employment outcomes and independent living. This priority fosters collaboration between education providers and employers and partnerships with one or multiple local or State entities to help meet the goals of the project. This notice relates to the approved information collection under OMB control number 1820-0018.

DATES:

Applications Available: March 30, 2020.

Deadline for Transmittal of Applications: May 14, 2020.

Date of Pre-Application Meeting: The Office of Special Education and Rehabilitative Services (OSERS) will post a PowerPoint presentation that provides general information related to RSA's discretionary grant competitions and a PowerPoint presentation specifically related to this Rehabilitation Long-Term Training program—Vocational Rehabilitation Counseling competition at https://ncrtm.ed.gov/RSAGrantInfo.aspx. OSERS will conduct a pre-application meeting specific to this competition via conference call in order to respond to questions on April 21, 2020 at 2:00 p.m. Eastern time. OSERS invites you to send questions to 84.129B@ed.gov in advance of the pre-application meeting. The teleconference information, including the 84.129B pre-application meeting summary of the questions and answers, will be available at https://ncrtm.ed.gov/RSAGrantInfo.aspx within 6 days after the pre-application meeting.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Diandrea Bailey, Ph.D., U.S. Department of Education, 400 Maryland Avenue SW, Room 5065A, Potomac Center Plaza, Washington, DC 20202-2800. Telephone: (202) 245-6244. Email: 84.129B@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The Rehabilitation Long-Term Training program, Rehabilitation Counseling (84.129B) is designed to support projects that provide academic training in areas of personnel shortages identified by the Secretary to increase the number of personnel trained in providing VR services to individuals with disabilities. Projects must be operated in a manner consistent with nondiscrimination requirements contained in the U.S. Constitution and the Federal civil rights laws.

Priorities: This competition includes two absolute priorities and two competitive preference priorities. The first absolute priority is from the notice of final priority for this program published in the Federal Register on November 5, 2013 (78 FR 66271) (2013 NFP) (www.govinfo.gov/content/pkg/FR-2013-11-05/pdf/2013-26500.pdf). Absolute Priority 2 and Competitive Preference Priority 1 are from the Secretary's Final Supplemental Priorities and Definitions for Discretionary Grant Programs (Supplemental Priorities) published in the Federal Register on March 2, 2018 (83 FR 9096). In accordance with 34 CFR 75.105(b)(2)(ii), Competitive Preference Priority 2 is from regulations (34 CFR 75.255).

Absolute Priorities: For FY 2020, and any subsequent year in which we make awards from the list of unfunded applications from this competition, these priorities are absolute priorities. Under 34 CFR 75.105(c)(3), we consider only applications that meet these priorities.

These priorities are:

Absolute Priority 1

Under this priority, the Department funds programs leading to a master's degree in VR counseling. The goal of this priority is to increase the skills of VR counseling scholars so that upon successful completion they are prepared to effectively meet the needs and demands of consumers with disabilities and employers.

Under this priority, applicants must:

(a) Provide data on the current and projected employment needs and personnel shortages in State VR agencies and other related agencies as defined in 34 CFR 386.4 in their local area, region, and State, and describe how the proposed program will address those employment needs and personnel shortages.

(b) Describe how the VR counseling program will provide rehabilitation counselors the skills and knowledge that will help ensure that the individuals with disabilities that they serve can meet current demands and emerging trends in the labor market, including how:

(1) The curriculum provides a breadth of knowledge, experience, and rigor that will adequately prepare scholars to meet the employment needs and goals of VR consumers and aligns with evidence-based practices and with competency-based skills (e.g., advanced counseling skills, critical thinking skills, and skills in building collaborative relationships) in the field of VR counseling;

(2) The curriculum prepares scholars to meet all applicable certification standards;

(3) The curriculum addresses new or emerging consumer employment needs or trends at the national, State, and regional levels;

(4) The curriculum teaches scholars to address the needs of individuals with a range of disabilities and individuals with disabilities who are from diverse cultural backgrounds;

(5) The curriculum will train scholars to recognize the assistive technology needs of consumers throughout the rehabilitation process so that they will be better able to coordinate the provision of appropriate assistive technology services and devices in order to assist the consumer to obtain and retain employment;

(6) The curriculum will teach scholars to work effectively with employers in today's economy, including by teaching strategies for developing relationships with employers in their State and local areas, identifying employer needs and skill demands, making initial employer contacts, presenting job-ready clients to potential employers, and conducting follow-up with employers; and

(7) The latest technology is incorporated into the methods of instruction (e.g., the use of distance education to reach scholars who live far from the university and the use of technology to acquire labor market information).

(c) Describe their methods to:

(1) Recruit highly capable prospective scholars who have the potential to successfully complete the academic program, all required practicum and internship experiences, and the required service obligation;

(2) Educate potential scholars about the terms and conditions of the service obligation under 34 CFR 386.4, 386.34, and 386.40 through 386.43 so that they will be fully informed before accepting a scholarship;

(3) Maintain a system that ensures that scholars sign a payback agreement and an exit form when they exit the program, regardless of whether they drop out, are removed, or successfully complete the program;

(4) Provide academic support and counseling to scholars throughout the course of the academic program to ensure successful completion;

(5) Ensure that all scholars complete an internship in a State VR agency as a requirement for program completion. In such cases where an applicant can provide sufficient justification that it is not feasible for all students receiving scholarships to meet this requirement, the applicant may require scholars to complete an internship in a State VR agency or a related agency, as defined in 34 CFR 386.4. Circumstances that would constitute sufficient justification may include, but are not limited to, a lack of capacity at the State VR agency to provide adequate supervision of scholars during their internship experience or the physical distance between scholars and the nearest office of the State VR agency (e.g., for scholars enrolled in distance-learning programs or at rural institutions). Applicants should include written justification in the application or provide it to Rehabilitation Services Administration (RSA) for review and approval by the appropriate RSA Project Officer no later than 30 days prior to a scholar beginning an internship in a related agency;

(6) Provide career counseling, including informing scholars of professional contacts and networks, job leads, and other necessary resources and information to support scholars in successfully obtaining and retaining qualifying employment;

(7) Maintain regular contact with scholars upon successful program completion (e.g., matching scholars with mentors in the field), to ensure that they have support during their search for qualifying employment as well as support during the initial months of their employment;

(8) Maintain regular communication with scholars after program exit to ensure that scholar contact information is up-to-date, and that documentation of employment is accurate and meets the regulatory requirements for qualifying employment; and

(9) Maintain accurate information on, while safeguarding the privacy of, current and former scholars from the time they are enrolled in the program until they successfully meet their service obligation.

(d) Describe a plan for developing and maintaining partnerships with State VR agencies and community-based rehabilitation service providers that includes:

(1) Coordination between the grantee and the State VR agencies and community-based rehabilitation service providers that will promote qualifying employment opportunities for scholars and formalized on-boarding and induction experiences for new hires;

(2) Formal opportunities for scholars to obtain work experiences through internships, practicum agreements, job shadowing, and mentoring opportunities; and

(3) A scholar internship assessment tool that is developed to ensure a consistent approach to the evaluation of scholars in a particular program. The tool should reflect the specific responsibilities of the scholar during the internship. The grantee and worksite supervisor are encouraged to work together as they see fit to develop the assessment tool. Supervisors at the internship site will complete the assessment detailing the scholar's strengths and areas for improvement that must be addressed and provide the results of the assessment to the grantee. The grantee should ensure that (A) scholars are provided with a copy of the assessment and all relevant rubrics prior to beginning their internship, (B) supervisors have sufficient technical support to accurately complete the assessment, and (C) scholars receive a copy of the results of the assessment within 90 days of the end of their internship.

(e) Describe how scholars will be evaluated throughout the entire program to ensure that they are proficient in meeting the needs and demands of today's consumers and employers, including the steps that will be taken to provide assistance to a scholar who is not meeting academic standards or who is performing poorly in a practicum or internship setting.

(f) Describe how the program will be evaluated. Such a description must include:

(1) How the program will determine its effect over a period of time on filling vacancies in the State VR agency with qualified counselors capable of providing quality services to consumers;

(2) How input from State VR agencies and community-based rehabilitation service providers will be included in the evaluation;

(3) How feedback from consumers of VR services and employers (including the assessments described in paragraph (d)(3)) will be included in the evaluation;

(4) How data from other sources, such as those from the Department, on the State VR program will be included in the evaluation; and

(5) How the data and results from the evaluation will be used to make necessary adjustments and improvements to the program.

Absolute Priority 2

Background: Cost sharing of at least 10 percent of the total cost of the project is required by 34 CFR 386.30 for grantees under the Rehabilitation Long-Term Training program. To the extent that the Department uses funds set aside under section 21 of the Rehabilitation Act to make awards to minority entities or Indian tribes to carry out activities under authorized title III programs, such as the Rehabilitation Long-Term Training program, we require cost sharing equal to that of the programs under which the award is made. Therefore, we have included an absolute priority for matching support through non-Federal contributions, either in cash or in-kind donations. Although the cash or in-kind resources to be contributed must be at least 10 percent of the total grant award, we encourage a higher percentage through the competitive preference priority included within this absolute priority.

Applicants must address this absolute priority, and the competitive preference priority, if applicable, in the budget information (ED Form 524, Section B) and budget narrative. The applicant must propose the amount of cash or in-kind resources to be contributed for each year of the grant.

Priority: Projects that are designed to demonstrate matching support for the proposed project at 10 percent of the total amount of the grant.

Competitive Preference Priority 1: Within this absolute priority, for FY 2020 and any subsequent year in which we make awards from the list of unfunded applications from this competition, we give competitive preference to applications that address the following priority. Under 34 CFR 75.105(c)(2)(i) we award an additional three points to an application that meets paragraph (a) of the competitive preference priority and an additional five points to an application that meets paragraph (b) of the competitive preference priority.

This priority is:

Projects that are designed to demonstrate matching support for the proposed projects:

(a) 50 percent of the total amount of the grant (3 points); or

(b) 100 percent of the total amount of the grant (5 points).

Note: This competitive preference priority match is not mandatory, but if an applicant responds to and meets the criteria outlined in the Competitive Preference Priority 1, an additional three or five points will be applied to the application score. Cost sharing of at least 10 percent of the total cost of the project is mandatory of all grantees under the Rehabilitation Long-Term Training program.

Competitive Preference Priority 2: For FY 2020 and any subsequent year in which we make awards from the list of unfunded applications from this competition, this priority is a competitive preference priority. Under 34 CFR 75.105(c)(2)(i) we award an additional two points to an application that meets Competitive Preference Priority 2.

Competitive Preference Priority 2—Novice Applications (2 points)

(a) Under this priority, an applicant must demonstrate that the applicant—

(i) Has never received a grant or subgrant under this program;

(ii) Has never been a member of a group application, submitted in accordance with 34 CFR 75.127-75.129, that received a grant under this program; and

(iii) Has not had an active discretionary grant from the Federal Government in the five years before the deadline date for applications under this program.

(b) For the purpose of this priority, a grant is active until the end of the grant's project or funding period, including any extensions of those periods that extend the grantee's authority to obligate funds.

Program Requirements: The program requirements for this competition are from 34 CFR part 386 and are as follows:

Grantees are required to maintain a system that safeguards the privacy of current and former scholars from the time they are enrolled in the program until they successfully meet their service obligation through qualified employment or monetary repayment. This system must ensure that the payback agreement is signed by each scholar prior to the disbursement of initial funds and for each subsequent year that funds are disbursed and contain the terms and conditions outlined in the regulations at 34 CFR part 386.

Each grantee must—

(a) Provide an original signed/executed payback agreement to RSA (34 CFR 386.34(c) and (d)), regardless of whether the scholars drop out, are removed, or successfully complete the program;

(b) Establish, publish, and apply reasonable standards for measuring whether a scholar is maintaining satisfactory progress in the scholar's program of study (34 CFR 386.34(e));

(c) Ensure exit certification forms are signed by each scholar and clearly delineate pertinent grant information and the scholar's responsibilities to meet the service obligation (34 CFR 386.34(f));

(d) Collect documentation that the employment, not including work completed as part of an internship, practicum, or other work-related requirement necessary to complete the educational program (34 CFR 386.34(g)(2)), meets the requirements of 34 CFR 386.40(a)(7); and

(e) Maintain payback records for not less than one year beyond the period when all scholars have completed their service obligation or entered into repayment. (34 CFR 386.34(g) and 34 CFR 386.34(j)).

Specifically, each grantee is required to maintain the following scholar information:

(a) Current contact information for all students receiving scholarships, including home address, email, and a phone number (home or cell).

(b) A point of contact for each scholar in the event that the grantee is unable to contact the student. This contact must be at least 21 years of age and may be a parent, relative, spouse, partner, sibling, or guardian.

(c) Cumulative financial support granted to scholars.

(d) Scholar debt in years.

(e) Program completion date and reason for exit for each scholar.

(f) Annual documentation from the scholar's employer(s) until the scholar completes the service obligation. This documentation must include the following elements in order to verify qualified employment: start date of employment to the present date, confirmation of full-time or part-time employment (if the scholar is working part-time the number of hours per week must be included in the documentation), type of employment, and a description of the roles and responsibilities performed on the job. This information is required for each employer if the scholar has worked in more than one setting in order to meet the service obligation.

(g) If the scholar is employed in a related agency, documentation to validate that there is a relationship between the related agency and the State VR agency. This may be a formal or informal contract, cooperative agreement, memorandum of understanding, or related document.

(h) Annual documentation from the scholar's institution of higher education to verify dates of deferral, if applicable. An educational deferral may be granted to the scholar who is pursuing higher education specifically in the field of rehabilitation but not to a scholar pursuing education in any other field of study (§ 386.41(b)(1)). The documentation may be prepared by the scholar's advisor or department chair and must include: confirmation of enrollment date, estimated graduation date, confirmation that the scholar is enrolled in a full-time course of study, and confirmation of the scholar's intent to fulfill the service obligation upon completion of the program.

Grantees are required to report annually to RSA on the data elements described above using the RSA Grantee Reporting Form, OMB number 1820-0617, an electronic reporting system supported by the RSA Payback Information Management System (PIMS). In addition, grantees must use all forms required by RSA to prepare and process repayment, as well as requests for deferral and exceptions. The RSA Grantee Reporting Form collects specific data, including the number of scholars entering the rehabilitation workforce, the rehabilitation field each scholar enters, and the type of employment setting each scholar chooses (e.g., State VR agency, nonprofit service provider, or professional practice group). This form allows RSA to measure results against the goal of increasing the number of qualified VR personnel working in State VR and related agencies.

Grantees are required to inform the scholars that upon graduation they will need to verify the accuracy of data in the system, submit employment data, request exceptions and deferrals, and upload documentation in PIMS; and grantees and scholars are required to inform the employers that they will be required to verify scholar employment information within the PIMS.

In addition, all Rehabilitation Long-Term Training grantees must submit the following quantitative and qualitative data in a semiannual and annual performance report:

(a) Program activities that occurred during each fiscal year from October 1 to March 31 and projected program activities to occur from April 1 to September 30 should be included in the semiannual performance report. Program activities that occur during each fiscal year from October 1 to September 30 must be included in the annual performance report. For subsequent reporting years, grantees confirm projections made from the prior year.

(b) Summary of academic support and counseling provided to scholars to ensure successful completion.

(c) Summary of career counseling provided to scholars upon program completion to ensure that they have support during their search for qualifying employment, as well as during their initial months of their employment. This may include but is not limited to informing scholars of professional contacts, networks, and job leads, matching scholars with mentors in the field, and connecting scholars to other necessary resources and information.

(d) Summary of partnership and coordination activities with State VR agencies and community-based rehabilitation providers. This may include, but is not limited to, obtaining input and feedback regarding curricula from State VR agencies and community-based rehabilitation providers; organizing internships, practicum agreements, job shadowing, and mentoring opportunities; and assessing scholars at the work site.

(e) Assistance provided to scholars who may not be meeting academic standards or who are performing poorly in a practicum or internship setting.

(f) Results of the program evaluation, as well as information describing how these results will be used to make necessary adjustments and improvements to the program.

(g) Results from scholar internship, practicum, job shadowing, or mentoring assessments, as well as information describing how those results will be used to ensure that future scholars receive all necessary preparation and training prior to program completion.

(h) Results from scholar evaluations and information describing how these results will be used to ensure that future scholars will be proficient in meeting the needs and demands of today's consumers and employers.

(i) Number of scholars who began an internship during the reporting period.

(j) Number of scholars who completed an internship during the reporting period.

(k) Number of scholars who dropped out or were dismissed from the program during the reporting period.

(l) Number of scholars receiving RSA scholarships during the reporting period.

(m) Number of scholars who graduated from the program during the reporting period.

(n) Number of scholars who obtained qualifying employment during the reporting period.

(o) Number of vacancies filled in the State VR agency with qualified counselors from the program during the reporting period.

(p) A budget and narrative detailing expenditures covering the period of October 1 through March 31 and projected expenditures from April 1 through September 30. The budget narrative must also verify progress towards meeting the 10 percent match requirement. For subsequent reporting years, grantees will confirm projections made from the prior year.

(q) Other information, as requested by RSA, in order to verify substantial progress and effectively report program impact to Congress and key stakeholders.

Fourth and Fifth Years of the Project: In deciding whether to continue funding any Rehabilitation Long-Term Training grant for the fourth and fifth years, the Department will consider the requirements of 34 CFR 75.253(a), including:

(a) The recommendation of the RSA project officer who will monitor the reported annual performance of the grantee's training program and measure it against the projections stated in the grantee's application. This review will consider the number of students actually enrolled in the grantee's training program, the number of students who successfully enter qualifying employment with the State VR agencies, and the number who obtain qualifying employment at other related agencies;

(b) The timeliness and effectiveness with which all requirements of the grant award have been or are being met by the grantee, including the submission of annual performance reports and annual RSA Scholar Payback Program reports, and adherence to fiduciary responsibilities related to the budget submitted in the application per 2 CFR part 200, “Uniform Administrative Requirements, Cost Principles, and Audit Requirements for Federal Awards,” and the Education Department General Administrative Regulations; and

(c) The quality, relevance, and usefulness of the grantee's training program and activities and the degree to which the training program and activities and their outcomes have contributed to significantly improving the quality of VR professionals ready for employment with State VR agencies and related agencies, as measured by the percentage of students entering qualified employment under 34 CFR 386.34.

Note: While applicants may not hire staff or select trainees based on race or national origin or ethnicity, they may conduct outreach activities to increase the pool of eligible minority candidates. We may disqualify and not consider for funding any applicant that indicates that it will hire or train a certain number or percentage of minority candidates.

Program Authority: 29 U.S.C. 772.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR parts 385 and 386. (e) The 2013 NFP. (f) The Supplemental Priorities.

Note:The regulations in 34 CFR part 79 apply to all applicants except federally recognized Indian Tribes.

Note: The regulations in 34 CFR part 86 apply to institutions of higher education only.

II. Award Information

Type of Award: Discretionary grants.

Estimated Available Funds:$6,184,453.

Contingent upon the availability of funds and the quality of applications, we may make additional awards in subsequent years from the list of unfunded applications from this competition.

Estimate Range of Awards: $180,000-$200,000.

Estimated Average Size of Awards: $190,000.

Maximum Award: We will not make an award exceeding $200,000 for a single budget period of 12 months.

Estimated Number of Awards: 31.

Note: The Department is not bound by any estimates in this notice.

Project Period: Up to 60 months.

III. Eligibility Information

1. Eligible Applicants: States and public or private nonprofit agencies and organizations, including Indian Tribes and institutions of higher education.

2. Cost Sharing or Matching: Cost sharing of at least 10 percent of the total cost of the project is required of grantees under the Rehabilitation Long-Term Training program. The Secretary may waive part of the non-Federal share of the cost of the project after negotiations if the applicant demonstrates that it does not have sufficient resources to contribute the entire match (34 CFR 386.30). The Secretary does not, as a general matter, anticipate waiving this requirement in the future. Furthermore, given the importance of matching funds to the long-term success of the project, eligible entities must identify appropriate matching funds in the proposed budget. Finally, the selection criteria include factors such as “the adequacy of support, including facilities, equipment, supplies, and other resources, from the applicant organization or the lead applicant organization” and “the relevance and demonstrated commitment of each partner in the proposed project to the implementation and success of the project,” which may include a consideration of demonstrated matching support.

Note: Under 34 CFR 75.562(c), an indirect cost reimbursement on a training grant is limited to the recipient's actual indirect costs, as determined by its negotiated indirect cost rate agreement, or eight percent of a modified total direct cost base, whichever amount is less. Indirect costs in excess of the limit may not be charged directly, used to satisfy matching or cost-sharing requirements, or charged to another Federal award.

Note: Under 34 CFR 386.31(a), a grantee must use at least 65 percent of the total cost of the project under this program for scholarships as defined in 34 CFR 386.4.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Submission of Proprietary Information: Given the types of projects that may be proposed in applications for the Rehabilitation Training: Rehabilitation Long-Term Training competition, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative (Part III of the application) is where you, the applicant, address the selection criteria that reviewers use to evaluate your application. We recommend that you (1) limit the application narrative to no more than 45 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to Part I, the cover sheet; Part II, the budget section, including the narrative budget justification; Part IV, the assurances and certifications; or the one-page abstract, the resumes, the bibliography, or the letters of support. However, the recommended page limit does apply to all of the application narrative.

V. Application Review Information

1. Selection Criteria: The selection criteria for this competition are from 34 CFR 75.210 and 386.20, and are as follows:

(a) Relevance to State-Federal vocational rehabilitation service program. (10 points)

(1) The Secretary reviews each application for information that shows that the proposed project appropriately relates to the mission of the State-Federal vocational rehabilitation service program.

(2) The Secretary looks for information that shows that the project can be expected either—

(i) To increase the supply of trained personnel available to State and other public or nonprofit agencies involved in the rehabilitation of individuals with disabilities through degree or certificate granting programs; or

(ii) To improve the skills and quality of professional personnel in the rehabilitation field in which the training is to be provided through the granting of a degree or certificate.

(b) Nature and scope of curriculum. (20 points)

(1) The Secretary reviews each application for information that demonstrates the adequacy of the proposed curriculum.

(2) The Secretary looks for information that shows—

(i) The scope and nature of the coursework reflect content that can be expected to enable the achievement of the established project objectives;

(ii) The curriculum and teaching methods provide for an integration of theory and practice relevant to the educational objectives of the program;

(iii) For programs whose curricula require them, there is evidence of educationally focused practical and other field experiences in settings that ensure student involvement in the provision of vocational rehabilitation, supported employment, customized employment, pre-employment transition services, transition services, or independent living rehabilitation services to individuals with disabilities, especially individuals with significant disabilities;

(iv) The coursework includes student exposure to vocational rehabilitation, supported employment, customized employment, employer engagement, and independent living rehabilitation processes, concepts, programs, and services; and

(v) If applicable, there is evidence of current professional accreditation by the designated accrediting agency in the professional field in which grant support is being requested.

(c) Quality of project services. (25 points)

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the training or professional development services to be provided by the proposed project are of sufficient quality, intensity, and duration to lead to improvements in practice among the recipients of those services.

(ii) The extent to which the training or professional development services to be provided by the proposed project are likely to alleviate the personnel shortages that have been identified or are the focus of the proposed project.

(iii) The extent to which the services to be provided by the proposed project involve the collaboration of appropriate partners for maximizing the effectiveness of project services.

(d) Quality of project personnel. (10 points)

(1) The Secretary considers the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of the project director or principal investigator.

(ii) The qualifications, including relevant training and experience, of key project personnel.

(iii) The qualifications, including relevant training and experience, of project consultants or subcontractors.

(e) Adequacy of resources. (20 points).

(1) The Secretary considers the adequacy of resources for the proposed project.

(2) In determining the adequacy of resources for the proposed project, the Secretary considers the following factors:

(i) The adequacy of support, including facilities, equipment, supplies, and other resources, from the applicant organization or the lead applicant organization.

(ii) The relevance and demonstrated commitment of each partner in the proposed project to the implementation and success of the project.

(iii) The extent to which the budget is adequate to support the proposed project.

(iv) The extent to which the costs are reasonable in relation to the number of persons to be served and to the anticipated results and benefits.

(v) The potential for continued support of the project after Federal funding ends, including, as appropriate, the demonstrated commitment of appropriate entities to such support.

(f) Quality of the management plan. (15 points)

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The adequacy of mechanisms for ensuring high-quality products and services from the proposed project.

(iii) The extent to which the time commitments of the project director and principal investigator and other key project personnel are appropriate and adequate to meet the objectives of the proposed project.

In addition to the selection criteria listed above, the Secretary, in making awards under this program and in accordance with 34 CFR 385.33, considers such factors as the two listed below from 34 CFR 385.33, which will not be scored by the peer review panel—

(a) The geographical distribution of projects in each Rehabilitation Training program category throughout the country; and

(b) The past performance of the applicant in carrying out similar training activities under previously awarded grants, as indicated by such factors as compliance with grant conditions, soundness of programmatic and financial management practices, and attainment of established project objectives.

These criteria will be used after non-Federal reviewers score the applications. The criterion related to geographical distribution of projects will be applied to fund applications out of rank order if the top-ranked applications do not represent a geographical distribution throughout the country. The criterion related to past performance will be applied to all applications that are recommended for funding.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

When reviewing prior performance under 34 CFR 75.217(d)(3) and conducting risk assessments pursuant to 2 CFR 200.205, the Secretary will consider factors such as whether applicants have demonstrated sufficient institutional capacity through the commitment of adequate resources, as described in the selection criteria, and suitable past performance to fully implement multiple awards. In reviewing capacity, the Secretary will consider factors such as whether potential grantees have demonstrated sufficient staffing, an adequate pool of potential scholars, and existing relationships with VR and related agencies to place scholars from multiple grants in appropriate internships. Based on these reviews, the Secretary will take appropriate action under 34 CFR 75.217(d)(3), 2 CFR 200.205, and 2 CFR 3474.10, before making awards to a grantee.

3. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit semiannual and annual performance reports that provide the most current performance and financial expenditure information as directed by the Secretary under 34 CFR 75.118. The Secretary may also require more frequent performance reports under 34 CFR 75.720(c). For specific requirements on reporting, please go to www.ed.gov/fund/grant/apply/appforms/appforms.html.

5. Performance Measures: The Government Performance and Results Act of 1993 (GPRA) directs Federal departments and agencies to improve the effectiveness of programs by engaging in strategic planning, setting outcome-related goals for programs, and measuring program results against those goals.

GPRA Measure 1: The percentage of master's level counseling graduates fulfilling their payback requirements through qualifying employment.

GPRA Measure 2: The percentage of master's level counseling graduates fulfilling their payback requirements through qualifying employment in State VR agencies.

GPRA Measure 3: The Federal cost per master's level RSA-supported rehabilitation counseling graduate.

In addition, the following RSA Program Measures apply to the Rehabilitation Long-Term Training program:

Program Measure 1: Number of scholars enrolled during the reporting period.

Program Measure 2: Number of scholars who dropped out or were dismissed from the program during the reporting period.

Program Measure 3: Number of scholars who graduated with a master's degree from the program during the reporting period.

Program Measure 4: Number of scholars who obtained employment in a State VR agency during the reporting period.

Program Measure 5: Number of scholars who maintained or advanced in their employment in a State VR agency during the reporting period.

Annual project progress toward meeting project goals must be posted on the project website or university website.

6. Continuation Awards: In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Mark Schultz,
Commissioner, Rehabilitation Services Administration. Delegated the authority to perform the functions and duties of the Assistant Secretary for the Office of Special Education and Rehabilitative Services.

[FR Doc. 2020-06535 Filed 3-27-20; 8:45 am]

BILLING CODE 4000-01-P